NUCLEAR REGULATORY COMMISSION

[Docket Nos. 50-309 and 72-30; NRC-2024-0020]

Maine Yankee Atomic Power Company; Maine Yankee Atomic Power Station; Exemption

AGENCY: Nuclear Regulatory Commission.

ACTION: Notice; issuance.

SUMMARY: The U.S. Nuclear Regulatory Commission (NRC) has issued an exemption in response to the March 31, 2023, request from Maine Yankee Atomic Power Company (MYAPC or Maine Yankee), for the Maine Yankee Atomic Power Station (MYAPS), located in Wiscasset, Maine. The exemption permits MYAPC to make withdrawals from a separate account within Maine Yankee's overall Nuclear Decommissioning Trust (NDT), on an annual basis, for spent nuclear fuel and Greater than Class C (GTCC) waste management and non-radiological site restoration without prior notification to the NRC.

DATES: The exemption was issued on February 29, 2024.

ADDRESSES: Please refer to Docket ID NRC-2024-0020 when contacting the NRC about the availability of information regarding this document. You may obtain publicly available information related to this document using any of the following methods:

• Federal Rulemaking website: Go to https://www.regulations.gov and search for Docket ID NRC-2024-0020. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Tilda Liu, Office of Nuclear Material Safety and Safeguards, U.S. Nuclear Regulatory Commission, Washington, DC 20555-0001; telephone: 404-997-4730, email: Tilda.Liu@nrc.gov.

SUPPLEMENTARY INFORMATION: By letter dated March 31, 2023, (ADAMS Accession No. ML23113A005), the Maine Yankee Atomic Power Company (MYAPC or Maine Yankee) submitted a request to the NRC for an exemption from sections 50.82(a)(8)(i)(A) and 50.75(h)(2) of title 10 of the Code of Federal Regulations (10 CFR) for the Maine Yankee Independent Spent Fuel Storage Installation (ISFSI).¹

¹ The Maine Yankee ISFSI sits on the former site of the Maine Yankee Atomic Power Station, which MYAPC finished decommissioning in 2005. Although only the Maine Yankee ISFSI remains on the site, Maine Yankee's 10 CFR part 50 license, Facility Operating License No. DPR-36, remains in effect. Because MYAPC requested an exemption from the requirements of 10 CFR part 50, this would be an exemption for MYAPC's 10 CFR part 50 license rather than for MYAPC's 10 CFR part 72 general license. Therefore, although MYAPC's submission requested an exemption for the Maine Yankee ISFSI, the NRC considers it a request for an exemption for the Maine Yankee Atomic Power Station.

Maine Yankee has established a separate (segregated) account within its over-arching Nuclear Decommissioning Trust (NDT), entitled “ISFSI Radiological Decom,” that identifies the funds for radiological decommissioning of the ISFSI apart from the larger balance of funds in the NDT allocated for ongoing management of spent nuclear fuel and Greater than Class C (GTCC) waste and for non-radiological site restoration activities. Although 10 CFR 50.82 applies to the segregated account, it does not apply to the overall NDT.

The exemption from 10 CFR 50.82(a)(8)(i)(A) and 50.75(h)(2) allows MYAPC to make withdrawals from the segregated account, on an annual basis, for spent nuclear fuel and GTCC waste management and non-radiological site restoration without prior notification to the NRC. More specifically, with this exemption, MYAPC can annually transfer funds exceeding 110 percent of the inflation-adjusted Decommissioning Cost Estimate, described in 10 CFR 50.75, from the segregated account to its overarching NDT and use those funds for spent nuclear fuel and GTCC waste management and non-radiological site restoration.

Based on the review, the NRC determined that, pursuant to 10 CFR 50.12(a), the exemption is authorized by law, will not present an undue risk to the public health and safety, and is consistent with the common defense and security. Also, the NRC determined that special circumstances are present. Therefore, the NRC granted Maine Yankee an exemption from the requirements of 10 CFR 50.82(a)(8)(i)(A) and 10 CFR 50.75(h)(2) to permit MYAPC to make withdrawals from the segregated account, on an annual basis, for spent nuclear fuel and GTCC waste management and non-radiological site restoration without prior notification to the NRC. All other relevant requirements shall be met. On February 29, 2024, the NRC issued an exemption for MYAPC (ADAMS Package Accession No. ML23286A325). The NRC staff also prepared an environmental assessment and finding of no significant impact regarding the proposed exemption request, published in the Federal Register on February 28, 2024 (89 FR 14723), and concluded that the proposed exemption would not have a significant impact on the quality of the human environment.

Dated: March 27, 2024.
For the Nuclear Regulatory Commission.
Yoira K. Diaz-Sanabria,
Chief, Storage and Transportation Licensing Branch, Division of Fuel Management, Office of Nuclear Material Safety and Safeguards.

[FR Doc. 2024-06820 Filed 3-29-24; 8:45 am]

BILLING CODE 7590-01-P